DEPARTMENT OF AGRICULTURE

Forest Service

Revised Land and Resource Management Plan for the Green Mountain National Forest, VT

AGENCY: Forest Service, USDA.

ACTION: Notice of intent to prepare an Environmental Impact Statement and a revised Land and Resource Management Plan for the Green Mountain National Forest located in Addison, Bennington, Rutland, Washington, Windham, and Windsor counties, Vermont.

SUMMARY: The USDA Forest Service intends to prepare an Environmental Impact Statement (EIS) for revising the Green Mountain National Forest Land and Resource Management Plan (Forest Plan or Plan) pursuant to 16 U.S.C. 1604[f] [5] and USDA Forest Service National Forest System Land and Resource Management Planning regulations 36 CFR 219.12. The revised Forest Plan will supersede the current Forest Plan, which the Regional Forester approved January 15, 1987. The Green Mountain National Forest Plan has been amended nine times. This notice describes the focus areas of change, estimated dates for filing the EIS, information concerning public participation, and names and addresses of the responsible agency official and the individual who can provide additional information.

DATES: Comments concerning the scope of the analysis must be received by 60 days after the date it is published in the Federal Register. Comments should focus on (1) the proposal for revising the Forest Plan and (2) possible alternatives for addressing issues associated with the proposal. The Draft EIS is expected January 2004 and the Final EIS and revised Forest Plan are expected December 2004.

ADDRESSES: Send written comments to:NOI-GM Forest Plan Revision, Green Mountain and Finger Lakes National Forest, 231 North Main Street, Rutland, VT 05701.

FOR FURTHER INFORMATION CONTACT: For further information on the Green Mountain National Forest Plan revision, mail correspondence to Melissa Reichert, Forest Planner, 231 North Main Street, Rutland, VT 05701-2417 or call 802-747-6754, TTY 802-747-6765; or send electronic mail to: <mmreichert@fs.fed.us>. For general information on the Forest Plan revision process, access the forest Web page at: <www.fs.fed.us/r9/gmfl>.

SUPPLEMENTARY INFORMATION: The Regional Forester for the Eastern Region gives notice of the agency's intent to prepare an EIS to revise the Green Mountain National Forest Forest Plan. A Notice of Intent to prepare an EIS legally marks the beginning of the planning process.

As explained in this notice, the Green Mountain National Forest is planning to revise their Land and Resource Management Plan. The scope of the decision is limited to topics that need revision, updates, or corrections. In addition, changes in goals, objectives, management area descriptions, standards and/or guidelines, definitions, and monitoring requirements may be necessary. Some items are beyond the scope of what can be changed in a Revised Forest Plan. See the document titled “Implementing the Green Mountain National Forest Land and Resource Management Plan—A 15 Year Retrospective” for more information.

The Green Mountain National Forest Plan guides the overall management of the National Forest. A Forest Plan is analogous to a county, city or municipal zoning plan. Forest Plans establish overall goals and objectives (or desired future resource conditions) that a National Forest will strive to achieve. This is done in order to contribute toward ecological sustainability as well as contribute to the economic and social sustainability of local communities affected by National Forest management activities. Decisions made in the Forest Plan do not compel the agency to undertake particular site-specific projects and thus do not normally make any irreversible or irretrievable commitment of resources. Forest Plans also establish limitations on what actions may be authorized, and what conditions must be met during project decision-making. The following six decisions are made in a Forest Plan:

1. Forest-wide multiple-use goals and objectives (as required by 36 CFR 219.11[b]).

2. Forest-wide management requirements (36 CFR 219.27).

3. Management area direction (36 CFR 219.11 [c]).

4. Lands suited and not suited for timber management (36 CFR 219.14 and 36 CFR 219.11[b]).

5. Monitoring and evaluation requirements (36 CFR 219.11 [d]).

6. Recommendations to Congress (such as wilderness), if any (36 CFR 219.17).

Purpose and Need for Action

By the requirements of the National Forest Management Act, National Forests must revise their Forest Plan every 10 to 15 years, when conditions or demands in the area covered by the plan have changed significantly, when changes in agency policies, goals, or objectives would have a significant effect on forest level programs, or when monitoring and evaluation indicate that a revision is necessary (36 CFR 219.10[g]). At this time, there are three main reasons to revise the 1987 Forest Plan:

(1) It has been 15 years since the Regional Forester approved the original Forest Plan.

(2) Agency goals and objectives, along with other national guidance for strategic plans and programs, have changed.

(3) New issues and trends have been identified that could change the management goals; management areas; standards and guidelines; and monitoring and evaluation in the current Forest Plan.

Several sources have highlighted needed changes in the current Forest Plan:

(1) Public involvement has identified new information and public values.

(2) Monitoring and scientific research have identified new information and knowledge gained.

(3) Forest Plan implementation has led to the identification of management concerns and a need or desire to find better ways to accomplish desired future conditions.

(4) Changes in law, regulations and policies have taken place. In addition to changing public views about how these lands should be managed, a significant change in the information and scientific understanding of these ecosystems has occurred. Some new information is a product of research, while other information has resulted from changes in technology. Furthermore, the agency's Government Performance and Results Act Strategic Plan (2000) has adjusted the agency program to focus on four goals: ecosystem health, multiple benefits to people, scientific and technical assistance, and effective public service. These goals come with new objectives and outcome-based measures that should to be recognized and incorporated into the Plan revision process.

An interdisciplinary team is conducting the environmental analysis and will prepare an environmental impact statement associated with revision of the Forest Plan. This interdisciplinary team will also prepare the revised Forest Plan. In order to address these changes, the interdisciplinary team will work with the public to develop a list of forest wide goals, standards and/or guidelines; develop descriptions and definitions of management areas, desired condition statements, management area-specific standards and/or guidelines and identify draft management areas. These will then be used to develop alternatives to the proposed action for the Forest Plan.

Issues, Proposed Action, and Possible Alternatives

Through the Green Mountain National Forest Plan revision process we propose to:

(1) Explore management issues in order to draft a wide range of alternative ways to manage the National Forest.

(2) Review the Management Areas in the current Forest Plan and look at alternative ways to organize the management of the National Forest, for example management areas based on watersheds or ecological groupings.

(3) Review all Forest Plan goals, objectives, standards and guidelines for desired direction, relevance, consistency and accuracy.

(4) Fix minor inconsistencies in the current Forest Plan.

We propose to narrow the scope of the Forest Plan revision by focusing on issues identified as being most critically in need of change. Issue topics tol be addressed during the Forest Plan revision were identified through extensive work with the public, scientists, Forest Service employees, monitoring, evaluation, and review of regulations. A total of thirty-two issues were identified through this process. The issues were grouped together to form a number of larger more comprehensive issues where possible. Each issue and the criteria used for grouping and sorting are fully described in the companion document, “Implementing the Green Mountain National Forest Land and Resource Management Plan—A 15 Year Retrospective.”

Issues in this notice are separated into two categories:

(1) Major issues that are likely to vary by alternative.

(2) Issues that will be addressed during Forest Plan revision but are not likely to vary for each alternative.

Issues were considered likely to vary by alternative based on the analysis of the effect the issues will have on the Forest Plan, the level of concern and those issues having the most pervasive impact on the management of the forest and direction of the Forest Plan (e.g. management area designations, goals, objectives, standards and/or guidelines). These issues were also those where the Forest Service and the public expressed the greatest need and/or desire for change.

Issues that were not considered likely to vary by alternative were those having a significant impact on management but having less of an effect on over all direction and management area designation. Many of these issues had a high to moderate level of interest and concern; however, they could be addressed the same under various alternatives through goals, objectives, standards, guidelines, or management areas.

Due to the holistic nature of natural resource planning, it is important to address all of the issues together during the planning process, and not isolate individual issues. All issues are interrelated and affect each other. The challenge will be to look at the interrelationships among the issues that follow.

Additional detail is available on request, in the form of a document titled “Implementing the Green Mountain National Forest Land and Resource Management Plan—A 15 Year Retrospective.” You are encouraged to review this document before commenting on the Notice of Intent. You may request additional information by calling the phone number listed in this notice, by writing or e-mailing to the addresses listed in this notice, or by accessing the forest Web page at <www.fs.fed.us/r9/gmfl>.

Role of the Green Mountain National Forest

The Green Mountain National Forest is integral to the sense of place for communities across Vermont. There are different views of the role of the Green Mountain National Forest. Whatever the view, however, the role of the Green Mountain National Forest should be evaluated in a regional context. The role of the Green Mountain National Forest outlined in the 1987 Forest Plan emphasizes:

(1) Resources and values not provided on private land in the Northeast.

(2) Maintenance of management options for present and future generations.

(3) Opportunities for back country recreation and Wilderness.

(4) Maintenance of scenery in areas visible to visitors.

(5) Providing a wide variety of wildlife and fish.

(6) Maintenance of soil productivity.

(7) Keeping streams free of sediments and pollutants.

(8) Maintenance of vegetative diversity.

(9) Maintenance of viable populations of wildlife species.

(10) Production of high quality sawtimber on productive and accessible lands.

(11) Research and demonstration of management techniques.

Some people believe that the role of the Green Mountain National Forest is to provide unique opportunities like Wilderness, backcountry recreation, continuous blocks of habitat, old growth, and biodiversity. Others believe that the role of the National Forest is to provide high quality sawtimber for the Vermont forest products industry as well as provide high quality wildlife habitat. Some people believe that in the face of decreasing access to private lands, the access and pressure on public lands needs to be addressed. Finally, many believe that the role of the Green Mountain National Forest should be a mixture of all of the above.

People have different views about the role of the Green Mountain National Forest and these will need to be explored. The role of the Green Mountain National Forest will be assessed during the Forest Plan revision process and will guide the formation of alternatives. Each issue is related and the role of the Green Mountain National Forest is an over-arching issue that will guide decisions regarding other issues.

Major Issues Expected To Vary By Alternative

(1) Special Designations

Wilderness, Wild and Scenic Rivers, National Recreation Areas and Research Natural Areas, among others, are all allocations of lands to specific uses; some requiring Congressional designation. These specially designated lands may not allow for or may have reduced levels of timber and wildlife management and may limit some forms of recreational access. The concern is while many people may want to see more land allocated to these areas, others may oppose such allocation and may even desire a reduction in the quantities currently established. Some believe that allocating lands for these special areas will negatively impact other resource areas. Existing Congressionally designated areas and existing Research Natural Areas will not be revisited during the Forest Plan revision.

We propose to:

• Determine the most appropriate mix of specially designated areas to promote ecological, social, and economic sustainability.

• Make recommendations to Congress on special area designations such as Wilderness.

• Make designations that are within the authority of the Forest Service such as Research Natural Areas.

(2) Biodiversity and Ecosystem Management

This issue concerns the restoration, protection, maintenance and enhancement of biological and ecological diversity by conservation of species, plant and animal communities, and ecosystems at a variety of scales. This includes topics such as old growth, wildlife and fisheries management, soils, air, botany, fire management, invasive species management, pest management and pesticides, and biological reserves. Biological diversity will be considered on a regional (New England/Adirondacks) or sub-regional (Northern New England) scale that includes other National Forests and public lands. The issue involves examining regional coordination between National Forests, neighboring lands and conservation partners to determine which ecosystems the Green Mountain National Forest can provide to best serve the conservation of biological and ecological diversity in the Northeast.

Some views expressed by the public on this issue include: protection of biological diversity, protection of ecological systems and processes, maintenance of wildlife habitat for biological diversity, conservation of remote and unfragmented habitat to meet wildlife needs, maintenance of species population viability, defining the role of the Forest in biological diversity, increasing levels of protection for ecological integrity and complexity and biological diversity, and managing at the landscape level using principles of conservation biology including core areas, corridors and buffers. Still others are concerned that efforts to protect biological diversity may result in lower levels of timber production, limits on motorized access to some areas, or lower populations of some game animals.

The 1987 Forest Plan addressed biodiversity primarily at small scales, such as tree and stand diversity (species, within-stand features like snags, vegetation composition objectives, and age of vegetation) and individual species (Endangered, Threatened, Sensitive and Indicator). The Plan revision will consider biodiversity and natural communities at a variety of landscape scales and landscape patterns.

We propose to build on the 1987 Forest Plan to:

• Provide for mixes of desired and viable plant and animal species populations, natural communities, and landscape patterns.

• Revise the GMNF's management indicators including Management Indicator Species.

(3) Social and Economic Concerns

This issue involves people's desires for including, recognizing, and addressing community concerns and opportunities, economic impacts and benefits changing demographics in rural communities and providing multiple use management. The 1987 Green Mountain National Forest Plan states that the Forest should promote economic stability of local communities. The Forest Plan also talks about the goal of providing a consistent flow of goods and services on which local communities depend and to minimize disruptions to local economics that may result from forest management decisions.

The 1987 Forest Plan was created in part with a desire to “maximize net public benefits.” These benefits are both qualitative and quantitative in nature. The benefits range from increasing primitive and semi-primitive opportunities for recreation, to maintaining the annual amount of wood cut at or below present levels. The Forest Plan states that we need to consider the effects of management on local communities.

Some people believe that the Forest Service should recognize and address community concerns, opportunities, and sustainability especially in the areas of tax loss from land acquisition, potential revenues and employment that could be generated from the Forest through resource management and regional tourism. Socio-economic concerns, benefits and impacts will be considered and evaluated in the analysis of each alternative. It may also influence the development of some alternatives and may vary by alternative. We propose to:

• Provide for a mix of quantitative and qualitative socio-economic benefits provided by the Forest to the public and neighboring communities.

(4) Recreation Management

This issue centers on the mix of recreation opportunities offered on the Green Mountain National Forest including developed recreation facilities, trails and accessibility. People want to ensure that the Forest continues to place high emphasis on providing recreation opportunities. The appropriate mix of primitive, backcountry, low-density recreation opportunities, more developed, higher density recreation opportunities, motorized and un-motorized trail use is a concern. Some people want new or improved facilities for particular recreation activities and improved signage and information about recreation opportunities. It is believed that there have been increases in many recreational uses during the life of the Forest Plan. The effects of recreational use on the ecosystem as well as conflicting recreational uses need evaluation. Furthermore, the analysis for the Forest Plan should consider current and projected use, carrying capacity and the economic value of recreation.

The 1987 Forest Plan includes a full range of high quality recreation opportunities as a Forest goal. The Forest Plan also identifies backcountry recreation (including Wilderness, Primitive and Semi-primitive settings) as an emphasis for the management of the Green Mountain National Forest. There is discussion in the Forest Plan describing the role of the Forest in providing what private lands can not, including large, remote, unroaded settings for backcountry recreation, and the ever increasing demand for backcountry recreation due to increasing populations and shrinking supply of land capable of meeting backcountry demands. The Forest Plan does not, however, discuss the use of mountain bikes or allow for the use of Off Highway Vehicles on trails. We propose to:

• Provide for the appropriate mix of primitive, dispersed-use opportunities and more developed, higher density opportunities.

• Provide guidance for the use of mountain bikes and the use of motorized vehicles such as snowmobiles and off-highway vehicles.

• Identify the areas with opportunities for future trail development.

(5) Timber Management

The current Green Mountain National Forest Plan outlines that timber management could be used to maintain and enhance vegetative diversity, wildlife habitats, vistas, the health and condition of the forest ecosystem, and to produce high quality sawtimber. Timber harvesting could be done if it helps to achieve the recreation, visual, wildlife, timber, forest health and other objectives assigned to Management Areas.

Monitoring of the 1987 Forest Plan indicates that the amount of timber harvested in the Green Mountain National Forest has been below that necessary to create the desired future conditions outlined in the Plan. In addition, other goals that use timber management as a tool to achieve objectives, such as creation of habitat diversity for wildlife species, have also been well below desired levels due to their link to timber management.

There have been questions concerning the role of timber harvesting, the amount of timber cut, harvest methods, and management intensity. People have different views about these questions and these will all need to be explored during the Forest Plan revision. Timber harvesting may vary by alternative.

We propose to:

• Determine the appropriate level for timber harvesting.

• Establish methods and uses for vegetation management.

• More clearly define the desired mix and location of various vegetative age and composition.

Issues To Be Addressed But Not Expected To Vary by Alternative

The following issues will be explored during the Forest Plan revision and may be addressed through goals, objectives, standards and guidelines in the Forest Plan. There may also be management areas devoted to the various issues. These issues are not likely to vary by alternative, rather they are likely to be treated the same in each alternative.

1. Special Use Management

Special use management on the Green Mountain National Forest includes both recreational and non-recreational uses. These include things like outfitter guides, communication towers, windmills, large group gatherings, and special non-timber forest products.

2. Heritage Resources

Heritage resources include the archaeological sites, historic structures, and cultural landscapes that inform us about past people, environments, and their interactions. Management of heritage resources, including consistency with new federal laws, will be addressed during Forest Plan revision.

3. Road Management and Transportation Planning

This issue focuses on how the Green Mountain National Forest plans for and manages roads and transportation systems. This includes road maintenance, construction, usage, and closure.

4. Monitoring and Evaluation

Monitoring and evaluation are very important parts of a Forest Plan. Through monitoring and evaluation we are able to see if we are achieving the goals we set out to achieve. The outputs and monitoring approaches in the Forest Plan should be revised along with evaluation.

5. Information and Education

There is concern that the Green Mountain National Forest provide more information, increase public involvement, conduct better education programs and increase partnerships and volunteers.

6. Visual Quality and Scenery Management

This issue centers on the fact that some people want to see more emphasis on visual requirements during projects and some people want to see less emphasis on visual requirements. National Forests have been directed to incorporate the “Scenery Management System”, a new method for the management of scenic values, into their revised Forest Plan. This system will be used to address this issue in the revised Forest Plan.

7. Coordination and Partnerships

There has been concern that the GMNF should maximize partnerships and cooperative efforts with federal, state, local agencies, local and tribal governments, and the community in order to increase the quantity and quality of resources available to manage and enjoy the National Forest.

8. Water Resources

This issue includes water quality, fisheries, and watershed planning. These are relatively new issues and should be explored during Forest Plan revision. Some believe that the Green Mountain National Forest should provide aquatic (fisheries) habitat to provide for viable populations of species.

9. Land Acquisition

There has been concern about the acquisition of land for inclusion in the Green Mountain National Forest. The Plan will guide priorities for land acquisition. Standards and Guidelines will be developed to place newly acquired lands into management areas.

Range of Alternatives

We will consider a wide range of alternatives when revising the Forest Plan. The alternatives will address different options to resolve issues over the revision topics listed above and to fulfill the purpose and need. A “no-action alternative”, meaning that management would continue under the existing Forest Plan, will be considered. No other alternative has been developed at this time, but other alternatives are likely to be based on the issues listed above. Other alternatives will provide different ways to address and respond to issues identified during the public involvement phase called, scoping. Public input, Forest Service input and information gathered in various assessments will guide the creation of a wide range of alternatives, may change forest goals, management areas, and monitoring and evaluation for a revised Forest Plan.

In preparing the EIS for revising the Forest Plan, the Forest Service will estimate the potential impacts of various management alternatives on the Forest's physical and biological resources, as well as the potential economic and social impacts on local communities, disadvantaged individuals, disadvantaged communities and the broader regional economy.

The alternatives will display different mixes of recreation opportunities and experiences. We will examine alternatives that address the public's concerns for less timber harvest, for greater timber harvest, and meeting currently planned harvest levels. We will examine alternatives that address ecosystem approaches focused on ecological processes and landscape patterns. The alternatives will display different mixes of plant and animal communities across the forest. The mix will vary by the objectives of the particular alternative, though each alternative will contain the habitat necessary to maintain viable populations of plant and animal species. Social and Economic impacts will also be evaluated for each alternative.

The Forest Service may also make other minor changes to the Forest Plan as needed. The USDA Forest Service proposal may change forest goals, standards and/or guidelines, management areas, and monitoring and evaluation.

Scoping Process and Public Involvement

The Forest Service would like to create a collaborative relationship between the various stakeholders and the agency so that contentious issues may be discussed and eventually addressed through the revision of the Forest Plan. An atmosphere of openness is one of the objectives of the public involvement process, in which all members of the public have an opportunity to share information. To this end the Forest Service is seeking information, comments, and assistance from individuals, organizations, tribal governments, and federal, state, and local agencies who are interested in or may be affected by the proposed action (36 CFR 219.6). The Forest Service is also looking for collaborative approaches with members of the public who are interested in forest management. The range of alternatives to be considered in the DEIS will be based on public issues, management concerns, resource management opportunities and specific decisions to be made.

Public participation for the Green Mountain National Forest Plan revision process will include (but will not be limited to) local planning groups in communities in and around the forest, educational forums various revision topics; field trips and other activities are also planned. All of this will be done to keep the public informed during the entire process and to gather public input on issues, the formulation of alternatives, the scope and nature of the decisions to be made, and to help address various management conflicts. Meeting dates and locations will be announced in the media and on the forest web page as well as through flyers, mailings, and personal contacts.

Public participation will be sought throughout the entire revision process. The first formal opportunity to comment is during the scoping process (40 CFR 1501.7). Scoping includes:

(1) Identifying potential issues.

(2) Identifying significant issues of those that have been covered by prior environmental review.

(3) Exploring alternatives in addition to No Action.

(4) Identifying the potential environmental effects of the proposed action and alternatives.

Although Scoping is the first formal opportunity to comment, we chose to involve the public earlier in an effort to define the current situation before issuing this notice. We trust this will lead to improved information gathering and synthesis as well as provide more concise and specific public comments. This, in turn, will make it possible to develop more responsive alternatives to analyze in the Draft EIS, which is expected to be completed in January 2004. Review of the Draft EIS is another step where public participation is important. Additional information concerning the scope of the revision will be provided through future mailings, news releases, public meetings and the Internet.

Comment Requested

This notice of intent initiates the scoping process, which guides the development of the environmental impact statement. The Forest Service is seeking information, comments, and assistance from individuals, organizations, tribal governments, and federal, state, and local agencies that are interested in or may be affected by the proposed action. Comments on the revision topics or potential additional issues, and possible solutions to these issues are requested. Comments should focus on (1) the proposal for revising the Forest Plan and (2) possible alternatives for addressing issues associated with the proposal. Comments should be sent to the address listed in this notice.

Availability of Public Comment

Comments received in response to this solicitation, including names and addresses of those who comment, will be considered part of the public record on this proposed action and will be available for public inspection. Persons may request the agency to withhold a submission from the public record by showing how the Freedom of Information Act (FOIA) permits such confidentiality pursuant to 7 CFR 1.27(d). Persons requesting such confidentiality should be aware that under FOIA confidentiality may be granted in only very limited circumstances, such as to protect trade secrets. The Forest Service will inform the requester of the agency's decision regarding the request for confidentiality and where the requester is denied, the agency will return the submission and notify the requester that the comments may be resubmitted with or without name and address within 90 days.

Proposed New Planning Regulations

The Department of Agriculture expects to publish new planning regulations in 2003. Currently National Forests are operating under the 1982 planning regulations until the new ones are enacted. Therefore, the Green Mountain National Forest Plan will be revised using the 1982 planning regulations.

Responsible Official

Randy Moore, Regional Forester, Eastern Region, 310 W. Wisconsin Ave, Milwaukee, Wisconsin 53203.

Release and Review of the Draft EIS

The Draft Environmental Impact Statement (DEIS) is expected to be filed with the Environmental Protection Agency and to be available for public comment in January 2004. At that time the EPA will publish a notice of availability for the DEIS in the Federal Register. The comment period on the DEIS will be 90 days from the date the EPA publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 60 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21).

Dated: April 26, 2002.
Donald L. Meyer,
Acting Regional Forester.

[FR Doc. 02-10826 Filed 5-01-02; 8:45 am]

BILLING CODE 3410-11-P